GENERAL SERVICES ADMINISTRATION

[Notice-MG-2016-02; Docket No. 2016-0002; Sequence No. 13]

Office of Federal High-Performance Green Buildings; Green Building Advisory Committee; Notification of Upcoming Teleconferences

AGENCY: Office of Government-wide Policy (OGP), General Services Administration (GSA).

ACTION: Meeting notice.

SUMMARY: Notice of these teleconferences is being provided according to the requirements of the Federal Advisory Committee Act, 5 U.S.C. App. 10(a)(2). This notice provides the schedule for a teleconference/web meeting of the full Committee, and separately for a series of teleconferences/web meetings for two task groups of the Committee. These teleconferences are open for the public to listen in. Interested individuals must register to attend as instructed below under Supplementary Information.

DATES: Committee teleconference date: The Committee will hold a teleconference on Wednesday, July 27, 2016, from 1:00 p.m. to 2:30 p.m., Eastern Daylight Time (EDT).

Task group teleconference dates: The task group teleconferences will be held according to the following schedule:

The Green Leasing task group will hold recurring, weekly teleconferences on Tuesdays, beginning June 21, 2016 through September 27, 2016, from 2:00 p.m. to 3:00 p.m., EDT.

The Energy Use Intensity (EUI) task group will hold recurring, biweekly teleconferences on Wednesdays, beginning June 22, 2016 through September 28, 2016, from 3:00 p.m. to 4:00 p.m., EDT.

FOR FURTHER INFORMATION CONTACT: Mr. Ken Sandler, Designated Federal Officer, Office of Federal High-Performance Green Buildings, OGP, GSA, 1800 F Street NW., Washington, DC 20405, telephone 202-219-1121 (note: this is not a toll-free number). Additional information about the Committee, including meeting materials and updates on the task groups, will be available on-line at http://www.gsa.gov/gbac.

SUPPLEMENTARY INFORMATION:

Procedures for Attendance: Contact Mr. Ken Sandler at ken.sandler@gsa.gov to register to listen in to any or all of these teleconferences. To attend the teleconference(s), submit your full name, organization, email address, and phone number, and indicate which calls you would like to attend. Requests to listen in to the calls must be received by 5:00 p.m., EDT, Friday, June 24, 2016 (GSA will be unable to provide technical assistance to any listener experiencing technical difficulties. Testing access to the Web meeting site in advance of calls is recommended).

Background: The Administrator of GSA established the Committee on June 20, 2011 (Federal Register/Vol. 76, No. 118) pursuant to Section 494 of the Energy Independence and Security Act of 2007 (EISA, 42 U.S.C. 17123). Under this authority, the Committee advises GSA on the rapid transformation of the Federal building portfolio to sustainable technologies and practices. The Committee reviews strategic plans, products and activities of the Office of Federal High-Performance Green Buildings and provides advice regarding how the Office can accomplish its mission most effectively.

The Green Leasing task group will propose recommendations in support of GSA's development of model commercial leasing provisions, a requirement of the Energy Efficiency Improvement Act of 2015 (42 U.S.C. 17062).

The Energy Use Intensity (EUI) task group will propose recommendations following the motion of a committee member to “develop guidelines for creating a new energy intensity metric [to reflect impacts of] densified facilities, centrally located workplace sites . . . and expansion of telework and hoteling.”

The teleconferences will allow the task groups to coordinate the development of consensus recommendations to the full Committee, which will in turn decide whether to proceed with formal advice to GSA based upon these recommendations. Additional background information and updates will be posted on GSA's Web site at http://www.gsa.gov/gbac.

July 27, 2016 Committee Teleconference/Web Meeting Agenda:

• Committee business

• Energy Use Intensity (EUI) study results

• GSA Greening the Supply Chain

• Wrap-up and Next Steps

• Adjourn

Detailed agendas, relevant background information and updates for the teleconferences will be posted on GSA's Web site at http://www.gsa.gov/gbac.

Kevin Kampschroer,
Federal Director, Office of Federal High-Performance Green Buildings, General Services Administration.

[FR Doc. 2016-12836 Filed 5-31-16; 8:45 am]

BILLING CODE 6820-14-P